DEPARTMENT OF ENERGY

National Nuclear Security Administration

Notice of Availability for the Draft Site-Wide Environmental Impact Statement for Continued Operation of the Lawrence Livermore National Laboratory

AGENCY: National Nuclear Security Administration, Department of Energy.

ACTION: Notice of availability and public hearings.

SUMMARY: The National Nuclear Security Administration (NNSA), a semi-autonomous agency within the United States (U.S.) Department of Energy (DOE), announces the availability of a Draft Site-Wide Environmental Impact Statement for Continued Operation of the Lawrence Livermore National Laboratory (Draft LLNL SWEIS) (DOE/EIS-0547) in compliance with the National Environmental Policy Act of 1969 (NEPA). NNSA is also announcing a 60-day public comment period and three public hearings to receive comments on the Draft LLNL SWEIS. NNSA prepared the Draft LLNL SWEIS to analyze the potential environmental impacts associated with continuing LLNL operations and foreseeable new and/or modified operations and facilities for approximately the next 15 years.

DATES: NNSA invites other Federal agencies, Native American Tribes, state and local governments, industry, other organizations, and members of the public to review and submit comments on the Draft LLNL SWEIS through January 3, 2023. NNSA will hold three public hearings (two in-person and one virtual) to receive comments on the Draft LLNL SWEIS. Dates, locations, and times for the public hearings are listed in the SUPPLEMENTARY INFORMATION section of this Notice of Availability. Any changes or updates to the public hearing will also be published in local newspapers and on social media platforms at least 15 days before the hearings.

ADDRESSES: Written and verbal comments will be given equal weight and NNSA will consider all comments received or postmarked by the end of the comment period in preparing the Final LLNL SWEIS. Comments received or postmarked after the comment period will be considered to the extent practicable. Written comments on the Draft LLNL SWEIS or requests for information related to the Draft LLNL SWEIS should be sent by email to: LLNLSWEIS@nnsa.doe.gov or to Ms. Fana Gebeyehu-Houston, LLNL SWEIS Document Manager, DOE/NNSA, 1000 Independence Ave. SW, Washington, DC 20585. Before including your address, phone number, email address, or other personally identifiable information in your comment, please be advised that your entire comment—including your personally identifiable information—may be made publicly available. If you wish for NNSA to withhold your name and/or other personally identifiable information, please state this prominently at the beginning of your comment. You may also submit comments anonymously.

The Draft LLNL SWEIS is available online at: https://www.energy.gov/nnsa/nnsa-nepa-reading-room and https://www.energy.gov/nepa/listings/latest-documents-and-notices. Copies of the Draft LLNL SWEIS will also be available for review at the Livermore Public Library, 1188 South Livermore Avenue, Livermore, California, and the Tracy Public Library, 20 East Eaton Avenue, Tracy, California.

FOR FURTHER INFORMATION CONTACT: For further information about this notice, please contact Ms. Fana Gebeyehu-Houston, LLNL SWEIS Document Manager, DOE/NNSA, 1000 Independence Ave. SW, Washington, DC 20585; call 833-778-0508 to leave a message or via email at: LLNLSWEIS@nnsa.doe.gov.

SUPPLEMENTARY INFORMATION: NNSA is responsible for meeting the national security requirements established by the President and Congress to maintain and enhance the safety, reliability, and performance of the U.S. nuclear weapons stockpile. The continued operation of LLNL is critical to NNSA's Stockpile Stewardship and Management Program, to prevent the spread and use of nuclear weapons worldwide, and to many other areas that may impact national security and global stability. The Draft LLNL SWEIS analyzes two alternatives: (1) the No-Action Alternative and (2) the Proposed Action. The Draft LLNL SWEIS also analyzes the new hybrid work environment under both alternatives due to increases in remote work at LLNL. Under the No-Action Alternative, NNSA would continue current facility operations throughout LLNL in support of assigned missions. The No-Action Alternative includes previously approved construction of new facilities; modernization, upgrade, and utility projects; and decontamination, decommissioning, and demolition of excess and aging facilities through 2022.

The Proposed Action includes the scope of the No-Action Alternative and an increase in current facility operations or enhanced operations that may require new or modified facilities and that are reasonably foreseeable over the next 15 years. Continued re-investment in site infrastructure would allow LLNL to meet mission deliverables and sustain science, technology, and engineering excellence to respond to future national security challenges. The Proposed Action includes 75 new projects, totaling 3.3 million square feet, between 2023 and 2035. This comprises 61 proposed projects, totaling 2.9 million square feet, at LLNL's main site in Livermore, California and 14 proposed projects, totaling 385,000 square feet, at LLNL's remote testing site, Site 300, near Tracy, California. In addition, NNSA proposes 20 types of modernization, upgrade, and utility projects, each involving several facilities. Under the Proposed Action, NNSA would also decontaminate, decommission, and demolish 150 facilities, totaling 1,170,000 square feet. NNSA proposes operational changes that would increase the tritium emission limits in the National Ignition Facility (Building 581) and the Tritium Facility (Building 331), decrease the administrative limit for fuels-grade-equivalent plutonium in the Superblock (Building 332), increase the administrative limits for plutonium-239 at Building 235, and revise the National Ignition Facility radioactive materials administrative limits to be consistent with DOE's Facility Hazard Categorization Standard (DOE-STD-1027).

NNSA will hold three public hearings (two in-person and one virtual) to receive comments on the Draft LLNL SWEIS:

Date and time | Location | Address
December 7, 2022; 6:00-8:30 p.m. p.s.t | Garré Vineyard & Winery | 7986 Tesla Road, Livermore, CA 94550.
December 8, 2022; 6:00-8:30 p.m. p.s.t | Tracy City Hall, City Council Chambers | 333 Civic Center Drive, Tracy, CA 95376.

For the in-person hearings, NNSA will hold an Open House from 6:00 p.m. until 6:30 p.m. to provide the public with an opportunity to engage with NNSA personnel and ask questions about the Draft SWEIS and NNSA activities at LLNL. Following the Open House, NNSA will make a presentation on the Draft SWEIS lasting approximately 20-minutes, then answer any clarifying questions on the presentation. Following this presentation, NNSA will receive formal public comments with transcription by a court stenographer. NNSA will not answer questions during the formal public comment period.

In addition to the two in-person hearings, NNSA will hold an on-line virtual public hearing. The date and time of the virtual public hearing will be announced at least 15 days before the hearing, access instructions will be published in local newspapers, posted on social media platforms, and available on the following websites: https://www.energy.gov/nnsa/nnsa-nepa-reading-room and https://www.energy.gov/nepa/listings/latest-documents-and-notices.

Following the public comment period, and after consideration of comments received, NNSA will prepare a Final LLNL SWEIS. NNSA will announce the availability of the Final LLNL SWEIS in the Federal Register and local media outlets. Following completion of the Final LLNL SWEIS, NNSA intends to decide how operations will be conducted at LLNL, including construction and operation of new facilities, modification and upgrade of existing facilities and utilities, operational changes, and/or decontamination, decommission and demolition of excess and aging facilities. These decisions will be provided in an NNSA Record of Decision published in the Federal Register, which would be issued no sooner than 30 days after publication by the Environmental Protection Agency of the notice of availability of the Final LLNL SWEIS.

Signing Authority

This document of the Department of Energy was signed on October 24, 2022 by Jill Hruby, Under Secretary for Nuclear Security and Administrator, National Nuclear Security Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 1, 2022.
Treena V. Garrett,
Federal Register Liaison Officer, U.S. Department of Energy.

[FR Doc. 2022-24069 Filed 11-3-22; 8:45 am]

BILLING CODE 6450-01-P